DEPARTMENT OF EDUCATION

Office of Special Education and Rehabilitative Services; Applications for New Awards for Fiscal Year (FY) 2002

AGENCY: Department of Education.

ACTION: Notice inviting applications for new awards for fiscal year (FY) 2002.

SUMMARY: This notice announces closing dates, priorities, and other information regarding the transmittal of grant applications for FY 2002 competitions under three programs authorized under part D, subpart 2 of the Individuals with Disabilities Education Act (IDEA), as amended. The three programs are: (1) Special Education—Research and Innovation to Improve Services and Results for Children with Disabilities (three priorities); (2) Special Education—Personnel Preparation to Improve Services and Results for Children with Disabilities (five priorities); and (3) Special Education—Technical Assistance and Dissemination to Improve Services and Results for Children with Disabilities (four priorities).

Please note that significant dates for the availability and submission of applications, as well as important fiscal information, are listed in a table at the end of this notice.

Waiver of Rulemaking

It is generally our practice to offer interested parties the opportunity to comment on proposed priorities. However, section 661(e)(2) of IDEA makes the rulemaking procedures in the Administrative Procedure Act (5 U.S.C. 553) inapplicable to the priorities in this notice.

General Requirements

(a) The projects funded under this notice must make positive efforts to employ and advance in project activities qualified individuals with disabilities (see section 606 of IDEA).

(b) Applicants and grant recipients funded under this notice must involve individuals with disabilities or parents of individuals with disabilities in planning, implementing, and evaluating the projects (see section 661(f)(1)(A) of IDEA).

(c) The projects funded under these priorities must budget for a two-day Project Directors' meeting in Washington, DC during each year of the project.

(d) In a single application an applicant must address only one absolute priority in this notice.

(e) If a project maintains a Web site, it must include relevant information and documents in an accessible form.

Page Limit: If you are an applicant, Part III of each application, the application narrative, is where you address the selection criteria that are used by reviewers in evaluating the application. You must limit Part III to the equivalent of no more than 70 pages, using the following standards:

• A “page” is 8.5″ x 11″ (on one side only) with one-inch margins (top, bottom, and sides).

• Double-space (no more than three lines per vertical inch) all text in the application narrative, including titles, headings, footnotes, quotations, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography or references, or the letters of support. However, you must include all of the application narrative in Part III.

We will reject any application if—

• You apply these standards and exceed the page limit; or

• You apply other standards and exceed the equivalent of the page limit.

Project Period: Each project funded in this notice is for a project period of up to 60 months.

Instructions for Transmittal of Applications

Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications

In FY 2002, the U.S. Department of Education is continuing to expand its pilot project of electronic submission of applications to include additional formula grant programs and additional discretionary grant competitions. The three programs in this announcement: Research and Innovation to Improve Services and Results for Children with Disabilities—CFDA 84.324, Personnel Preparation to Improve Services and Results for Children with Disabilities—CFDA 84.325, and Technical Assistance and Dissemination to Improve Services and Results for Children with Disabilities—CFDA 84.326 are included in the pilot project. If you are an applicant for a grant under any of the three programs, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application, fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for each of the three programs included in this notice at: http://e-grants.ed.gov

We have included additional information about the e-APPLICATION pilot project (see Parity Guidelines between Paper and Electronic Applications) in the application packages.

Research and Innovation to Improve Services and Results for Children with Disabilities [CFDA Number 84.324]

Purpose of Program: To produce, and advance the use of, knowledge to improve the results of education and early intervention for infants, toddlers, and children with disabilities.

Eligible Applicants: State educational agencies (SEAs); local educational agencies (LEAs); institutions of higher education (IHEs); other public agencies; nonprofit private organizations; outlying areas; freely associated States; and Indian tribes or tribal organizations.

Applicable Regulations: (a) The Education Department General Administrative Regulations (EDGAR) in 34 CFR parts 74, 75, 77, 80, 81, 82, 85, 86, 97, 98, and 99; and (b) The selection criteria, chosen from the general selection criteria in 34 CFR 75.210. The specific selection criteria for each priority are included in the application package for that competition.

Note: The regulations in 34 CFR part 86 apply to institutions of higher education only.

Priorities

Under 34 CFR 75.105(c)(3), we consider only applications that meet one of the following priorities:

Absolute Priority (1)—Research and Training Center on Scientifically Based Practices for Successful Early Childhood Transitions (84.324V)

Background

Early school success for young children with disabilities depends on the identification and implementation of scientifically based practices in programs supported by parts B and C of the IDEA. Effective transition services that help young children with disabilities and their families move from one service delivery system to another, such as childcare, healthcare, and early education, can enhance children's development and accomplishments at each subsequent level.

Effective preparation for kindergarten and early school holds promise of success for all children, including young children with disabilities. When children reach their third birthday, they transfer out of early intervention services under part C and into either preschool special education services or into other community-based services or programs. Young children with disabilities and their families experience the effects of transition as they move into an unfamiliar service delivery system. In turn, this transition process may affect early school success.

The use of scientifically based practices during transitions will boost cognitive ability and early literacy skills and encourage early identification and prevention of reading difficulties. These practices will also improve the ability of the States to meet the statutory and regulatory requirements for a smooth and effective transition.

Priority

As authorized under sections 672 and 673 of IDEA, the Assistant Secretary establishes an absolute priority for an Early Childhood Transition Research and Training Center to build on the existing research of successful early intervention and early childhood practices. The Center must identify, validate, and disseminate the most successful practices available for young children, ages birth through five, with disabilities and their families as the children grow and transition from early intervention services under part C into preschool services under part B, and eventually out of preschool special education programs. The Center must provide the conceptual framework and research for practices for implementing IDEA transition requirements.

The Center's activities must include, but are not limited to, the following:

(a) Implementing a research plan to identify and validate strategies that will maximize learning and development as children transition out of (1) early intervention services delivered under IDEA—part C (ages birth through two) and out of (2) preschool services delivered under IDEA—part B (ages three through five).

(b) Studying the multiple factors—including cultural factors—that affect children's transition experiences as these influences relate to later learning success. These factors must include the impact of family, school systems, and community resources.

(c) Identifying early school success predictors that can be documented during transition planning and addressed through IDEA services.

(d) Examining the interaction between young children's development and how service providers and teachers determine children's readiness in all areas of a child's development.

(e) Measuring the effectiveness of transition planning, with regard to the composition of teams that make decisions, types of transition planning services, settings where transition planning takes place, funding sources, and improved outcomes for young children with disabilities.

(f) Making it easier for researchers who promote the use of research findings and products to communicate and collaborate with one another.

(g) Improving linkages among researchers and providers to facilitate the exchange of knowledge related to or generated by the Center.

(h) Developing, validating, and disseminating—

(1) A curriculum for training early childhood transition professionals based on the knowledge gained from the Center's research activities; and

(2) Reports and documents on research findings and products from the Center in formats that are useful for specific audiences, including families, administrators, policymakers, early interventionists, related service personnel, teachers, and individuals with disabilities (see section 661(f)(2)(B) of IDEA).

(i) In planning and implementing its research and training, working together with part C lead agencies; preschool programs; parent training and information centers; community parent resource centers; professional and advocacy organizations; IHEs, including Historically Black Colleges and Universities; agencies and organizations involved in delivery of services to minority infants and toddlers with disabilities, especially those who are African American, Native American, Hispanic, and Asian American; and other agencies and organizations involved in providing services to infants and toddlers with disabilities and their families.

(j) Maintaining a Web site with current information on research findings.

(k) Disseminating findings through collaborative efforts with the Early Childhood Technical Assistance Center and other OSEP-funded projects.

(l) Conducting national and regional meetings, in collaboration with SEAs and LEAs, to assist providers in meeting the needs of young children entering and exiting IDEA service delivery systems.

(m) Using external and internal evaluators to measure and report to OSEP on the progress of the Center.

(n) Meeting with the OSEP project officer and appropriate OSEP staff within the first three months of the project to review the strategic work plan and the approach to dissemination.

(o) Funding each year as research assistants at least three graduate students who have concentrations in early childhood development and early childhood policy issues.

Other Requirements

The Center must also—

(a) Establish, maintain, and meet at least annually with an advisory committee consisting of at least three members from part C lead agencies; three members from State agency preschool programs, one of whom is an early childhood transition coordinator; three parents of young children, ages birth through five, with disabilities; an early childhood service provider; and a certified kindergarten or regular education teacher; and

(b) In addition to the two-day Project Directors' Meeting listed in the General Requirements section of this notice, budget for an additional two-day trip annually to Washington, DC. The purposes of this additional trip are (1) to attend an additional Project Directors' meeting; and (2) to meet and collaborate with the OSEP project officer and other funded projects for purposes of cross-project collaboration and information exchange.

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) The degree to which the project's design and methodology demonstrate the potential for advancing significant new knowledge.

(d) Evidence of the degree to which the project's activities have contributed to changed practice and improved student outcomes.

Number of Awards

Under this priority, the Secretary will make one award for a cooperative agreement.

Absolute Priority (2)—Center on Early Identification, Child Find, and Referral of Young Children with Disabilities (84.324G)

Background

Locating and accessing appropriate services within various early childhood systems can be particularly problematic for families of infants, toddlers, and preschoolers with disabilities. Families whose young children are in need of diagnostic services often experience lengthy periods of searching for the appropriate agency or agencies to provide these services. Timely referral to the LEA or part C Lead Agency (LA) can prevent these delays.

IDEA requires SEAs, LEAs, and LAs to carry out early identification, child find, and referral of infants, toddlers, and preschoolers with disabilities for evaluation and the provision of services under section 619 of Part B of IDEA, and under part C of IDEA.

Priority

As authorized under sections 672 and 673 of IDEA, the Assistant Secretary establishes a Center to identify and promote the use of effective models for early identification, child find, and referral for infants, toddlers, and young children with disabilities and their families.

The Center must carry out the following activities:

(a)(1) Conduct a comprehensive review and synthesis of the research literature on early identification, child find, and referral of infants, toddlers, and preschoolers with disabilities and those who are suspected of having disabilities; and (2) identify and investigate gaps in knowledge.

(b) Use the review and synthesis to determine the components of scientifically based models of early identification, child find, and referral designed to be implemented by SEAs, LAs, and their agency partners.

(c) Develop, validate, and disseminate effective scientifically based training units for use by SEAs, LAs, and their agency partners and assist these agencies in the implementation and evaluation of the training units. These units must be appropriate for implementation in all communities, including those with families representing diverse cultures.

(d) Through mechanisms including, but not limited to, an accessible Web site, broadly disseminate the training units and Center's findings on scientifically based practices in early identification, child find, and referral.

(e) In planning, developing, and implementing its research and training activities, work together with SEAs; LAs; parent training and information centers; community parent resource centers; professional and advocacy organizations; IHEs, including Historically Black Colleges and Universities; agencies and organizations involved in delivery of services to minority infants, toddlers, and preschoolers with disabilities, including those who are African American, Native American, Hispanic, and Asian American; and other agencies and organizations involved in providing services to infants, toddlers, and preschoolers with disabilities and their families.

(f) Consult with SEAs and LAs in which either the States' self-assessments or OSEP monitoring of the States' systems have identified early identification, child find, and referral as areas in need of improvement.

(g) Meet with the OSEP project officer in the first three months of the project to review the Center's proposed plans for (1) the literature review and (2) the development and implementation of the training units.

(h) Prepare the Center's findings and products in formats that are useful for specific audiences, including families, administrators, early interventionists, related service personnel, teachers, and individuals with disabilities (see section 661(f)(2)(B) of IDEA).

(i) Evaluate the effectiveness and impact of the training units and their implementation.

In carrying out these activities, the Center must examine the following with regard to identification, child find, and referral:

(a) The major characteristics of model programs.

(b) The roles and responsibilities of SEAs, LAs, and their respective partner agencies, such as the States' Departments of Health and Departments of Human Services.

(c) Scientifically based practices for improving the quality, acquisition, and implementation of the major components of these models by agencies responsible for these activities.

(d) Implementation of scientifically based training units with particular attention to areas of high density population, rural areas, and areas of high poverty.

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) The degree to which the project's design and methodology demonstrate the potential for advancing significant new knowledge.

(d) Evidence of the degree to which the project's activities have contributed to changed practice and improved student outcomes.

Number of Awards

Under this priority, the Secretary will make one award for a cooperative agreement.

Absolute Priority (3)—Center on Students Requiring Intensive Social, Emotional, and Behavioral Interventions (84.324Q)

Background

In recent years, educators and mental health practitioners have fostered schoolwide efforts that promote for all children good behavior and adherence to a system of rules in schools. Educators and practitioners have been especially supportive of a model that typically incorporates three stages of prevention and intervention:

(1) The first stage, often called “Primary Prevention”;

(2) The second stage, typically termed “Secondary Prevention” or “At-Risk Intervention,”; and

(3) The third stage, sometimes called “Tertiary” or “Intensive Intervention.”

The third stage addresses the needs of children who have failed to benefit from early intervention or whose unacceptable behavior, lack of maturation, or other weaknesses in social and emotional development indicate a serious deficit.

All who support this increasingly popular model agree that each stage is a necessary component, and a large number of OSEP-funded projects have targeted this tripartite approach. Nevertheless, research continues to document serious limitations in the relative effectiveness of interventions directed to the third group of children, those who require more intensive interventions and services.

Priority

As authorized under section 672 of IDEA, the Assistant Secretary establishes an absolute priority to support a Center to study and disseminate information on effective practices to improve outcomes for students with severe social, emotional, and behavioral deficits. The Center's focus encompasses students with, or at risk of, emotional disturbance, as well as students within other disability categories whose behavioral or emotional problems indicate a need for additional interventions. The focus includes students with “acting out” problems, as well as students who exhibit internalizing problems.

The Center must carry out the following activities:

(1) Synthesize Research: Conduct a literature review on the nature and efficacy of specific practices that are used in schools and other settings to improve results for students with social, emotional, and behavioral deficits.

(2) Conduct Longitudinal Research: Implement a quantitative and qualitative examination of the effectiveness of interventions for these students in three to five school districts, selected to represent a diversity of conditions, practices, and settings and to produce reliable findings that can be generalized to other settings.

(3) Disseminate Findings: Beginning in the second year of funding, implement a plan to provide usable information in suitable formats to other researchers and practitioners. While initially using information based on the literature review, the Center must eventually include information based on findings from the Center's research.

(4) Establish and Convene an Advisory Group: Establish and convene an advisory group to help support, guide, and define Center activities. The advisory group must meet at least once a year in Washington, DC. The group must include members of families with children that have disabilities, and representatives of the medical community, educational agencies, mental health agencies, and other agencies that identify and serve children with social, emotional and behavioral deficits.

An applicant should provide evidence of agency support for its proposal but refrain from securing specific commitments to serve on the advisory group until after the award has been made.

(5) Research Findings and Products: Produce research findings and products in formats that are useful and accessible for specific audiences including: professional development personnel; parents and other family members of affected children; local, State, and national policymakers; and the broad range of service providers. The Center must collaborate and coordinate dissemination activities with other OSEP-funded research and dissemination Centers that address the emotional and behavioral needs of children.

During the fourth or fifth year of the project, the Center must plan for and implement a national conference or other culminating event to foster the dissemination of findings and gauge reactions from affected parties.

(6) Budget for Trips: The Center must budget for three trips to Washington, DC during the first year, and two trips to Washington, DC each subsequent year. One trip would be for the purpose of meeting with the OSEP project officer during the first month of the project award to review the design of the project. A second annual trip is intended to meet the “General Requirements” section of this notice. The third annual trip would be for the purpose of meeting and collaborating with the OSEP project officer on matters other than the design of the project.

Cooperative Agreement

During the first three months of the award, the Center must work with the OSEP project officer to develop a strategic plan that will serve as the centerpiece of the cooperative agreement. The agreement will provide the foundation for all subsequent work in this project. Cooperative agreements are grants in which the Government has a direct interest and works closely with the grantee to ensure that the intentions and requirements of the priority are carried out.

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) The degree to which the project's design and methodology demonstrate the potential for advancing significant new knowledge.

(d) Evidence of the degree to which the project's activities have contributed to changed practice and improved student outcomes.

Number of Awards

Under this priority, the Secretary will make one award for a cooperative agreement.

Special Education—Personnel Preparation to Improve Services and Results for Children with Disabilities [CFDA 84.325]

Purpose of Program: The purposes of this program are to (1) help address State-identified needs for qualified personnel in special education, related services, early intervention, and regular education to work with children with disabilities; and (2) ensure that those personnel have the skills and knowledge derived from practices that have been determined through research and experience to be successful—that are needed to serve those children.

Eligible Applicants: Eligible applicants for Absolute Priorities 1, 4 and 5 are: State educational agencies (SEAs); local educational agencies (LEAs); institutions of higher education (IHEs); other public agencies; nonprofit private organizations; outlying areas; freely associated States; and Indian tribes or tribal organizations. Eligible applicants for Absolute Priority 2 are IHEs. Eligible applicants for Absolute Priority 3 are nonprofit private organizations.

Applicable Regulations: (a) The Education Department General Administrative Regulations (EDGAR) in 34 CFR parts 74, 75, 77, 79, 80, 81, 82, 85, 86, 97, 98, and 99; (b) The regulations for this program in 34 CFR part 304; and (c) The selection criteria chosen from the general selection criteria in 34 CFR 75.210. The specific selection criteria for each priority are included in the application package for that competition.

Priorities

Under 34 CFR 75.105(c)(3) we consider only applications that meet one of the following priorities:

Absolute Priority 1—Center for Educating and Providing Early Intervention Services to Children with Autism and Autistic Spectrum Disorders (84.325g)

Background

Increasing numbers of children have been diagnosed with autism and autistic spectrum disorders (ASD), such as autistic disorder, Asperger's disorder, atypical autism, and pervasive developmental disorder (PDD). These children are receiving special education and related services under part B of IDEA and early intervention services under part C of IDEA.

The research literature, including the National Academy of Sciences (NAS) report, “Educating Children with Autism” (2001), recommends strategies to enhance these children's development and improve their educational results. The report identifies the need for additional training for educators and other personnel responsible for planning and providing special education, related services, and early intervention services. A copy of the report can be obtained by writing to NAS at the following address: 2001 Wisconsin Avenue, NW., Washington, DC 20007. The report is also available at the following Web site: http://www.nap.edu

In developing this priority, the Assistant Secretary has incorporated several elements that the Assistant Secretary believes are necessary for a Center to be effective in addressing the educational and early intervention needs of children with autism and ASD. These elements include—

(1) Multiple approaches to improving education and early intervention for children with autism and ASD;

(2) Site-based professional development;

(3) Professional development that uses scientifically based methods to maximize the likelihood that the intended results will be achieved;

(4) Follow-up professional development provided in the work settings of the training participants; and

(5) Training provided to teams.

Priority

The Center must do the following:

(a)(1) Synthesize data on methods and practices related to special education and early intervention for children with autism and ASD. (2) Using information in the NAS report “Educating Children with Autism” and other sources, identify an array of methods and practices that may improve education and early intervention for these children.

(b) Verify that scientifically based research shows that the methods and practices in paragraph (a) are effective. This verification may be done by a representative panel of individuals knowledgeable about scientific method and education and about early intervention for children with autism and ASD, or by other methods.

(c) In carrying out activities in (a) and (b) the Center should coordinate with the Center for Children with Other Health Impairments, Tramatic Brain Injury, Orthopedic Impairments, and Developmental Delays Who Have Neurologically Based Disabilities.

(d) Provide site-based training. In providing this training, the Center must—

(1) Identify sites that are—

(A) Distributed across the country in order to reduce both travel time and costs for trainees,

(B) Effectively implementing the scientifically-based methods and practices that have been verified by the Center, and

(C) Willing to provide trainees opportunities to see and engage in the identified methods and practices in authentic settings; and

(2) Develop an outreach program to identify, select, and enroll a variety of trainees. Trainees must include representatives from lead agencies, LEAs, SEAs, early intervention personnel, related service personnel, parent training and information projects, Regional Resource Centers, parents, special and regular educators, parent advocacy groups, and other groups and agencies. Whenever practical, trainees should attend the training in teams.

(e) Provide a range of other training opportunities, through activities such as regional workshops, targeted conferences, summer programs, dissemination of training materials that the Center has developed, and other similar activities.

(f) Provide follow-up training and technical assistance to all trainees who desire to develop and implement practices and methods to improve programs in their home communities.

(g) Include an evaluation component based on clear, measurable performance and outcome goals, if possible, clearly linked to results.

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) Evidence of the degree to which the project's activities have contributed to changed practice and improved student outcomes.

Maximum Award

Note: The maximum award amount of $1,000,000 is exclusive of any matching funds provided by SEAs, LEAs, or agencies for site-based professional development.

Number of Awards

Under this priority, the Secretary will make one award for a cooperative agreement.

Absolute Priority 2—Center to Guide Personnel Preparation Policy and Practice in Early Intervention and Preschool Education (Birth to Five)(84.325J)

Background

The cornerstone of successful implementation of the IDEA Amendments of 1997 is the assurance that infants, toddlers, and preschoolers with disabilities are served by an adequate number of highly qualified personnel.

Priority

The Assistant Secretary establishes an absolute priority to support a Center to guide the development of policy and practice for personnel preparation in early intervention and preschool education. The Center is to do this by examining issues and recommending actions to ensure an adequate supply of well-qualified personnel to serve infants, toddlers, and preschoolers with disabilities. These personnel include early intervention service providers, special educators, speech-language pathologists, audiologists, occupational therapists, physical therapists, psychologists, social workers, nurses, nutritionists, family therapists, orientation and mobility specialists, pediatricians and other physicians, and paraprofessionals.

The Center must do the following:

(a) Conduct a comprehensive review of literature in the following subject areas:

(1) Licensure and certification standards and requirements, including alternative certification options, for personnel serving infants, toddlers, and preschoolers with disabilities. This review must include, at a minimum, available information across all States and for each type of personnel, on —

(i) Motivations for changes in, and resulting modifications to, licensure standards and requirements; and

(ii) Intended versus actual impacts of these standards and requirements, and changes to these standards and requirements, on personnel quantity and quality.

(2) Preservice preparation for personnel to serve infants, toddlers, and preschoolers with disabilities. The purpose of this review is to develop a profile of current training programs for all types of personnel who serve infants, toddlers, and preschoolers with disabilities. The profile must provide detailed descriptions of training programs at the institutional, State, and national levels. The review must include, at a minimum, available information on—

(i) Mechanisms for entering programs, such as admissions criteria and recruitment strategies;

(ii) Features of programs, such as program level (associate, undergraduate, graduate), faculty-trainee ratios, the ratios of tenure-track faculty to adjunct faculty, internal and external sources of support (including State support and OSEP and other Federal support), training emphasis (for example, multi-age program, multi-age program with early childhood focus, early-intervention program, preschool program), and program history;

(iii) Content features of programs, such as alignment with the principles and requirements of IDEA, alignment with current licensure and certification standards, the extent to which program content reflects research-based knowledge and practice, practicum opportunities, cross-disciplinary arrangements with other relevant programs, and collaborative relationships with service providers for infants, toddlers, and young children with disabilities to provide employment support;

(iv) Demographic characteristics of students, such as age, prior training and experience, racial and cultural diversity, and disability;

(v) Indicators of program quality assurance, such as procedures for assessing program quality (including on-the-job performance of students completing the program); and

(vi) Program outcomes, such as (A) the number of students completing the program; and (B) employment data regarding relevant positions for students completing the program, including the length of employment and proximity to the location of the training program.

(3) Current and projected supply of, and demand for, personnel to serve infants, toddlers, and preschoolers with disabilities. This review must include, at a minimum, available information, at the national, State, and local levels, on—

(i) The extent to which there exists, or will exist, an imbalance between available personnel and demand for personnel;

(ii) The extent to which identified discrepancies in supply and demand vary by personnel type and locality; and

(iii) Factors that influence discrepancies in supply and demand, such as salaries and wages, general economic climate, population demographics, licensure and certification standards and requirements, and proximity to relevant training programs.

(b) Identify critical gaps in current knowledge, and design and conduct a program to address these gaps. The project must identify the most critical gaps on the basis of the review described in paragraph (a). The program to address the gaps must—

(1) Be guided by a conceptual framework that (i) integrates the most pressing needs for expanded knowledge; and (ii) yields information that can be used to develop policies and practices at all levels (Federal, State, and local, as well as in institutions of higher education);

(2) Use a scientifically based research and evaluation methodology that is reviewed and accepted by panels of content, research, and evaluation experts. The project must identify these panels in collaboration with OSEP staff and convene the panels; and

(3) Be designed to enhance, not duplicate, any current research and evaluation efforts, including those supported by OSEP and other Federal agencies.

(c)(1) Develop and disseminate recommendations regarding policy and practice. On the basis of the review conducted under paragraph (a), and the results of the program designed and conducted under paragraph (b), the project must develop recommendations for policy and practice related to: meeting current and projected demand for qualified personnel; establishing quality licensure and certification standards and requirements; and providing effective training programs that produce highly qualified personnel to serve infants, toddlers, and preschoolers with disabilities.

(2) Recommendations regarding policy and practice must be reviewed and accepted by panels of experts in the identified topics. The project must identify these panels in collaboration with OSEP staff and convene the panels.

(3) The project must design and carry out dissemination activities in collaboration with: OSEP technical assistance providers and disseminators; professional organizations representing the various disciplines involved in the provision of services to infants, toddlers and preschoolers with disabilities; and organizations and associations that represent policymakers at the Federal, State, and local levels.

(4) Dissemination activities must incorporate the use of current communications technology and include information that is available and accessible through a Web site. Documents must be in an accessible form.

(d) Collaborate with OSEP staff in strategic planning throughout the term of the project. The Center must schedule a meeting in Washington, DC with OSEP to review the proposed project activities within one month of the project award date.

(e)(1) In addition to the annual two-day Project Directors' meeting in Washington, DC mentioned in the “General Requirements” section of this notice, and the meeting mentioned in paragraph (d), budget for two additional meetings in Washington, DC to collaborate with the Federal project officer, to share information, and to discuss issues related to the development of models, evaluation, and project implementation issues.

(2) A proposed project must also include in its budget costs associated with convening panels of experts as identified under paragraphs (b) and (c).

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) The degree to which the project's design and methodology demonstrate the potential for advancing significant new knowledge.

(d) Evidence of the degree to which the project's activities have contributed to changed practice and improved student outcomes.

Number of Awards

Under this priority, the Secretary will make one award for a cooperative agreement.

Absolute Priority (3)—Statewide Models for Ensuring That Special Education Students in Inclusive Schools are Served by Highly Qualified Teachers (84.325M)

Background

The percentage of students with disabilities served in settings with nondisabled students is rising. There must be a corresponding increase in the number of regular and special education teachers well prepared to provide these children access to the general education curriculum and opportunities to meet high standards.

Standards for State licensure and certification and for training programs and the preservice training of regular and special educators must be aligned to incorporate the research-based knowledge and skills that regular and special education teachers need to meet the needs of these children.

Priority

The Assistant Secretary announces an absolute priority to establish a support center to develop exemplary models for building statewide systems of training and improved licensure and certification. These systems are needed to ensure that beginning regular and special education teachers are well prepared to meet the learning and behavioral needs of children with disabilities.

The Center must do the following:

(a) Identify States that are committed to—

(1) Establishing a team of decisionmakers—such as, elected officials, faculty at teacher training institutions, personnel directors, and others within the State—that represents the full spectrum of personnel responsible for ensuring that regular and special education teachers are well prepared to effectively promote learning for all students. This team must be committed to support change within the State.

(2) Improving teacher licensure and certification standards for regular and special education teachers. These standards must reflect the research-based knowledge and skills that teacher candidates need to ensure that all students, including children with disabilities, have access to the general education curriculum and meet high academic standards;

(3) Establishing or revising a system of accountability for teacher quality to ensure that personnel licensed or certified in the State demonstrate competency in content and pedagogical knowledge and skills that—

(i) The improved licensure and certification standards require;

(ii) Are research-based; and

(iii) Lead to improved outcomes for children with disabilities.

(4) Working with all institutions of higher education and other entities in the State, including LEAs, that provide preservice preparation and staff development for regular and special education teachers to ensure that all professional development in the State is—

(i) Founded on training program standards that are aligned with improved, research-based certification or licensure standards;

(ii) Designed to incorporate and assess knowledge and skill mastery in research-based content and pedagogy;

(iii) Part of a continuous system that incorporates preservice preparation, mentoring and induction for beginning teachers, and continuing, comprehensive staff development; and

(iv) Designed to establish and promote partnerships between preservice training programs and local schools and LEAs.

(5) Cooperating with the Center to permit ongoing, comprehensive study and documentation of all aspects of the model as it progresses;

(6) Reducing burden and streamlining the process of model development by coordinating efforts with other initiatives and activities in the State, including those supported with Federal funds.

(b) Establish an advisory panel of representatives from national organizations—such as the American Federation of Teachers, National Education Association, Association of American Educators, Education Leaders Council, Council of Chief State School Officers, National Association of State Directors of Teacher Certification, and National Council on Teacher Quality—that together represent the full spectrum of organizations responsible for ensuring that regular and special education teachers are well prepared. These partners must advise the Center and assist it in securing expert support to meet the model development needs of the participating States.

(c) Design and structure the operation and management of the Center to—

(1) Be most responsive to the technical assistance needs identified by the participating States as they proceed with their commitment;

(2) Use current communications technology to plan and implement the activities of the Center;

(3) Identify and describe all aspects and stages of the models as they evolve in each State, including all factors in each State that may influence the process of developing a model;

(4) Provide constructive feedback to each State;

(5) Establish and carry out formal agreements with each State that clearly specify the contributions and responsibilities of the State and the Center. The Assistant Secretary urges each State and the Center to contribute fiscally toward developing a model;

(6) Establish a clearinghouse to provide links to resources and services the State may use to enhance (i) the research-based knowledge and skills; and (ii) the quality of preservice preparation and staff development; and

(7) Disseminate, through a variety of mechanisms, the models developed within each participating State, the factors that influenced the development of the model, and the products and outcomes identified by the Center. Dissemination mechanisms must include collaborative arrangements with appropriate technical assistance and dissemination centers funded by the Department of Education.

(d) Design and conduct a comprehensive evaluation of all aspects of the work of the Center with clearly measurable goals and objectives. This evaluation must be designed to guide refinements to the structure, activities, management, and products of the Center in order to improve the ultimate effectiveness of the Center;

(e) Fund, as project assistants each year, at least three doctoral students who have concentrations in relevant topics such as special education, teacher education, curriculum and instruction, and educational policy;

(f) Obtain and submit with the application for this priority strong letters of commitment from —

(1) Identified States. These letters of commitment must respond to paragraphs (a)(1)-(6); and

(2) National organization partners. These letters of commitment must describe the resources and expertise the partners will contribute to the work of the Center; and

(g) In addition to the annual two-day Project Directors meeting in Washington, DC mentioned in the “General Requirements” section of this notice, projects must budget for two additional meetings in Washington, DC to collaborate with the Federal project officer to share information and discuss issues related to the development of model, evaluation, and project implementation.

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) The degree to which the Center is making a positive contribution and its strategies are demonstrating the potential for disseminating significant new knowledge.

(d) Evidence of the degree to which the project's activities have contributed to changed practice and improved student outcomes.

Number of Awards

Under this priority, the Secretary will make one award for a cooperative agreement.

Absolute Priority 4—Research and Training Center to Prepare Personnel to Promote Parent and Professional Collaboration (84.325R)

Background

In the fall of 2001, OSERS held seven public forums on the reauthorization of the Individuals with Disabilities Education Act (IDEA). One of the most frequent concerns expressed by parents and professionals centered on their lack of skills and knowledge in trying to develop collaborative working relationships with each other in special education planning. This planning includes initial evaluations, determinations of eligibility, meetings about the Individualized Family Service Plan (IFSP) and Individualized Education Program (IEP), and continuing decisionmaking regarding the children's academic or functional behavior.

Efforts to establish collaborative working relationships in planning for children with disabilities were likely to slip into adversarial conflicts because the two parties lacked the skills to work out disagreements. Moreover, both parties involved in the complex decisionmaking about these children focused on the difficulties of building positive interactions based on mutual trust.

There was a strong feeling that training in collaborative strategies might prevent misunderstandings and differences of opinion in planning for these children and reduce the possibilities of mediation processes, due process hearings, and lawsuits.

In developing this priority, the Assistant Secretary has incorporated several elements that the Assistant Secretary believes are necessary for a center to be effective in improving parent and professional collaboration. These include (1) multiple approaches to improving parent and professional collaboration; (2) site-based professional development; (3) professional development that uses scientifically based methods to maximize the likelihood that the intended results will be achieved; (4) follow-up professional development provided in the work settings of the training participants; and (5) training provided to teams.

Priority

As authorized under sections 672, 673 and 685 of IDEA, the Assistant Secretary announces this absolute priority for the purpose of improving the interaction of parents and professionals in collaboratively planning and implementing early intervention and educational programs for children with disabilities.

The Center must do the following:

(a) Review and synthesize research and examine the current and most-promising practices across the country to improve parent and professional collaboration.

(b) Verify by scientifically based research that practices identified in paragraph (a) are effective. This verification may be done (i) by a representative panel of individuals knowledgeable about scientific method and about building effective parent and professional collaboration, or (ii) by other methods.

(c) If the panel fails to identify methods and practices that are scientifically based, identify for the interim some promising practices to be used for training. However, the Center must implement procedures to develop scientifically based models and approaches for training parents and professionals.

(d) Develop a coordinated program of research to address gaps in knowledge.

(e) Make efforts to establish a cooperative partnership with Consortium for Appropriate Dispute Resolution in Special Education (CADRE) to coordinate activities regarding mediation.

(f) Establish an advisory panel, which may be identical to the evaluation panel referred to in (b) above. A representative from CADRE should be on the advisory panel.

(g) Provide site-based training. In providing this training, the Center must—

(1) Select sites that are (i) distributed across the country in order to reduce both travel time and costs for trainees; (ii) effectively implementing the scientifically based methods and practices that have been verified by the Center; and (iii) willing to serve as training sites where trainees will be provided opportunities to see and engage in the identified methods and practices in authentic settings; and

(2) Develop an outreach program to identify, select, and enroll a variety of trainees. These trainees must include personnel from lead agencies, local educational agencies (LEAs), State educational agencies, parent training and information projects, Regional Resource Centers, the National Technical Assistance Center to Parents, parent advocacy groups, and other agencies, groups, and programs. If practical, trainees should attend the training in teams.

(h) Provide follow-up training and technical assistance to all trainees who desire to develop and implement a program to improve parent-professional collaboration in their home community.

(i) Provide a range of other training opportunities, through activities such as regional workshops, targeted conferences, dissemination of training materials that the Center has developed, and similar activities. If possible, the Center should take advantage of training activities using advanced technology.

(j) Develop a plan to conduct several leadership training academies for both parents and professionals related to parent and professional collaboration in order to promote the likely development of new methods and practices.

(k) Train parents and professionals to work together productively at the State and local levels to improve results for children with disabilities. Training should enable participants to work together successfully at school, LEA, and State levels; to identify and implement best practices; to improve policy, implement changes in systems, and promote flexibility and accountability for results, while focusing on successful approaches; and to enhance parental involvement in improving special education and student outcomes.

(l) Conduct an evaluation based on clear, measurable performance and outcome goals that are related to parent and professional collaboration and, if possible, clearly linked to improving results.

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) The degree to which the Center is making a positive contribution—and its strategies are demonstrating the potential for disseminating significant knowledge—to improve collaboration.

(d) Evidence of the degree to which the project's activities have contributed to changed practice and improved student outcomes.

Number of Awards

Under this priority, the Secretary will make one award for a cooperative agreement.

Absolute Priority 5—Center for Children with Other Health Impairments, Traumatic Brain Injury, Orthopedic Impairments and Developmental Delays Who Have Neurologically Based Disabilities (84.325T)

Background

Children with neurological impairments may be eligible for services under a number of categories under the Individuals with Disabilities Education Act (IDEA). These categories include Other Health Impairments (OHI), Traumatic Brain Injury (TBI), Orthopedic Impairments (OI), and Developmental Delays. Infants and toddlers may also have neurologically based developmental delays or diagnosed conditions that make them eligible for services under part C of IDEA. This priority addresses the needs of a wide range of children with neurological impairments who are eligible under IDEA and who require similar types of educational interventions or early intervention services.

Many children in the OHI category are identified because of Attention Deficit Disorder/Attention Deficit Hyperactive Disorder (ADD/ADHD).

TBI is an acquired neurological disorder that typically impacts learning and behavior, though academic skills per se are not always impaired. Many of the problems involve difficulties with memory, organization, and behavior that are not like those experienced by children with ADD/ADHD.

Children identified with OI commonly have concomitant congenital neurological disorders involving the brain that impact learning. For example, spina bifida is the most common severely disabling birth defect in the United States. Children with spina bifida are often unable to walk, but problems with math and attention are also common. Children with cerebral palsy have difficulties with ambulation, but the neurological basis for the impairment often also impacts learning.

The Assistant Secretary is establishing a Center for educating and providing early intervention services to children with neurological disabilities who are eligible under IDEA. The Center will ensure that parents and professionals have the most current, scientifically based methods and practices for planning and implementing educational and early intervention services to improve results for these children.

In developing this priority, the Assistant Secretary has incorporated several elements that he believes are necessary for a center to be effective in addressing the educational and early intervention needs of children with neurological impairments. These include (1) multiple approaches to improving education and early intervention of children with neurologically based disabilities; (2) site-based professional development; (3) professional development that uses scientifically based methods to maximize the likelihood that the intended results will be achieved; (4) follow-up professional development provided in the work settings of the training participants; and (5) training provided to teams.

Priority

As authorized under sections 673 and 685 of IDEA, the Assistant Secretary announces an absolute priority to establish a Center for educating and providing early intervention services to children with OHI, TBI, OI, and developmental delays who have neurologically based disabilities.

The Center must do the following:

(a)(1) Synthesize available data on methods and practices for serving children with neurologically based disabilities; and (2) identify an array of scientifically based methods and practices that may improve the education of eligible children.

(b) Verify that these methods and practices are effective through scientifically based research that is done by a representative panel of individuals knowledgeable about scientific method and about the education of eligible children with neurologically based disabilities, or by other methods.

(c) In carrying out the activities in (a) and (b) the Center must coordinate with the Center for Educating and Providing Early Intervention Services to Children with Autism and Autistic Spectrum Disorders.

(d) Provide site-based training. In providing this training, the Center must—

(1) Select sites that are (i) reasonably distributed across the country in order to reduce both travel time and costs for trainees; (ii) effectively implementing the scientifically based methods and practices that have been verified by the Center; and (iii) willing to provide trainees opportunities to see and engage in the identified methods and practices in authentic settings, and

(2) Develop an outreach program to identify, select, and enroll a variety of trainees. These trainees must include personnel from lead agencies, local educational agencies, State educational agencies, parent training and information projects, Regional Resource Centers, parent advocacy groups, institutions of higher education, related service providers, and other groups and programs. If practical, trainees should attend the training in teams.

(e) Provide a range of other training opportunities, through activities such as regional workshops, targeted conferences, dissemination of training materials that the Center has developed, and other activities.

(f) Provide follow-up training and technical assistance to all trainees who desire to develop and implement a program to improve the education of eligible children in their home community.

(g) Conduct an evaluation based on clear, measurable performance and outcome goals related to the education and early intervention for children with neurologically based disabilities.

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) Evidence of the degree to which the project's activities have contributed to changed practice and improved student outcomes.

Number of Awards

Under this priority, the Secretary will make one award for a cooperative agreement.

Special Education—Technical Assistance and Dissemination to Improve Services and Results for Children with Disabilities

Purpose of Program: The purpose of this program is to provide technical assistance and information—through such mechanisms as institutes, regional resource centers, clearinghouses, and programs that support States and local entities in building capacity—to (1) improve early intervention, educational, and transitional services and results for children with disabilities and their families; and (2) address systemic-change goals and priorities.

Applicable Regulations: (a) The Education Department General Administrative Regulations (EDGAR) in 34 CFR parts 74, 75, 77, 79, 80, 81, 82, 85, 86, 97, 98, and 99; and (b) The selection criteria, chosen from the general selection criteria in 34 CFR 75.210. The specific selection criteria for each priority are included in the application package for that competition.

Note: The regulations in 34 CFR part 86 apply to institutions of higher education only.

Eligible Applicants: State educational agencies, local educational agencies, institutions of higher education, other public agencies, nonprofit private organizations, for-profit organizations, outlying areas, freely associated States, and Indian tribes or tribal organizations.

Priorities

Under 34 CFR 75.105(c)(3), we consider only applications that meet one of the following priorities:

Absolute Priority 1—Technical Assistance Center on Disproportionate Representation of Culturally and Linguistically Diverse Students in Special Education (84.326E)

Background

The National Academy of Sciences (NAS) recently completed a congressionally mandated study on minorities in special education. The NAS report supports the data in the Twentieth Annual Report to Congress on the Implementation of the Individuals with Disabilities Education Act: 1998 indicating that African Americans are overrepresented in the mentally retarded category and Native Americans are overrepresented in the learning disabilities category. Both reports have similar data on disproportionate over-or under representation for Hispanics and for Asians and Pacific Islanders.

The NAS report also includes information on the special education placement rate by States of students from culturally diverse backgrounds. The information indicates a wide variation among States and notable inconsistencies within States.

The report concludes by providing practical recommendations that can be implemented by State educational agencies (SEAs) and local educational agencies (LEAs) to reduce disproportionate representation of culturally and linguistically diverse students in special education.

Section 618(c) of IDEA requires States to collect and examine data on students by disability and race to determine if significant disproportionate representation by disability categories or placement exists based on race. There is some evidence that SEAs and LEAs are experiencing difficulty with analyzing and interpreting the data and need assistance in developing plans and strategies to address disproportionate representation.

Priority

This priority establishes a center to provide technical assistance enabling SEAs and LEAs to effectively address and reduce incidences of disproportionate representation of minorities in special education resulting from inappropriate or ineffective educational practices.

The Center's activities must include, but are not limited to, the following:

(a) Collaborating with Project Forum, currently at the National Association of State Directors of Special Education (NASDSE), to determine the level of compliance for each State in collecting the data required in section 618(c) of IDEA.

(b) Assisting SEAs with analyzing and interpreting the data collected on representation of minorities in special education.

(c) Assisting SEAs with developing a plan to address disproportionality using the recommendations in the NAS report and focusing on effective early intervention, reading, and behavioral programs.

(d) Summarizing and disseminating—through a Web site and by other means—reports and documents on research findings and related topics to guide policy and practice.

(e) Conducting national and regional meetings, in collaboration with other centers such as the Regional Resource Centers, to help SEAs and LEAs address disproportionate representation of minorities in special education.

(f) Communicating and collaborating with—

(1) Other technical assistance centers, including the Elementary and Middle School Technical Assistance Center, Regional Resource Centers, Federal Resource Center, projects funded under the priority for “Linking Policy and Practice Audiences with the 1997 Amendments of IDEA,” Regional Educational Laboratories, and the planned national center for Reading First technical assistance;

(2) Organizations including NASDSE, the Council for Exceptional Children, 100 Black Men, and the National Association of Bilingual Education (NABE); and

(3) Other projects funded by OSEP concerning effective practices for reducing disproportionate representation.

(g) Communicating and collaborating with reading and behavioral research centers to ensure that LEAs and SEAs incorporate effective scientifically based reading and behavioral strategies into their plans for addressing disproportionate representation.

(h) Collaborating with institutions of higher education—including Historically Black Colleges and Universities, Hispanic-serving institutions, and other minority institutions—and recipients of State Improvement grants to produce quality teachers by designing and implementing scientifically based early intervention, reading, behavioral, and classroom management practices.

The Center must also do the following:

(a) Establish, maintain, and meet at least annually with an advisory committee—consisting of representatives of SEAs and LEAs, individuals with disabilities, parents, educators, professional organizations and advocacy groups, researchers, and other appropriate groups—to review and advise on the Center's activities and plans. The committee must include membership that represents urban school and minority populations.

(b) In addition to the two-day Project Directors' meeting in Washington, DC mentioned in the General Requirements section of this notice, budget for an additional two-day trip annually to Washington, DC (1) to attend an additional Project Directors' meeting and (2) to meet and collaborate with the OSEP project officer and other funded projects for purposes of cross-project collaboration and information exchange; and

(c) Budget for at least a monthly trip to attend appropriate meetings convened by the Department of Education (such as the regional Improving America's Schools conferences), NABE, NASDSE, and other Centers and organizations.

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) Evidence of the degree to which the project's activities have contributed to changed practice and improved student outcomes.

Number of Awards

Under this priority, the Secretary will make one award for a cooperative agreement.

Absolute Priority 2—Center to Improve Access to the General Education Curriculum for Students with Disabilities at the Elementary and Middle School Levels (84.326K)

Absolute Priority

Background

The 1997 reauthorization of the Individuals with Disabilities Education Act (IDEA '97) created expectations that students with disabilities would be included in State and local reform and accountability efforts. IDEA required that students with disabilities have access to the general curriculum and that States provide for the participation of students with disabilities in State and district-wide assessments and public reporting of the assessment results. IDEA also required States to establish performance goals for students with disabilities.

The No Child Left Behind Act of 2001 (NCLB), which reauthorized the Elementary and Secondary Education Act (ESEA), further strengthened the accountability for results for children with disabilities. Under NLCB each State must develop and implement a single, statewide accountability system that applies the same high standards of achievement to all students, including students with disabilities, and ensures that all school districts and public schools in the State make adequate yearly progress. The State's definition of adequate yearly progress must include separate annual measurable objectives for continuous and substantial improvement in mathematics and reading for all students and for each of four groups, including students with disabilities.

The overall quality of services children with disabilities receive varies widely by LEAs and across States. Many children are performing below their potential.

In trying to improve this situation, national technical assistance activities can play a pivotal role in building the capacity States need to support schoolwide change.

Identifying effective, scientifically validated practices; disseminating and replicating them through national, State, and local channels; and evaluating their use with children with disabilities has the potential to strengthen the overall education system and to improve achievement for all children, including children with disabilities.

Priority

The purpose of this priority is to increase access to and improve the quality of education in the general curriculum in areas of reading, language arts, mathematics, and science for children with disabilities in elementary and middle schools.

The Center must do the following:

(a) At the national level—

(1) Collaborate with the Office of Educational Research and Improvement's new “What Works Clearinghouse” to identify studies that may represent scientifically valid practices first in the area of reading and language arts (particularly, with regard to children who do not respond to class-wide interventions), next in mathematics, and then in science;

(2) Work with researchers and developers to incorporate effective educational strategies based on scientifically based research;

(3) Support work to implement research-based information and instructional practice at national, State, and local levels.

(b) At the State level, collaborate with the Regional Resource Centers (RRCs) to help States —

(1) Establish measurable annual IEP objectives for continuous and substantial improvement for students with disabilities;

(2) Strengthen efforts to continuously improve access to and the quality of education in the subject areas; and

(3) Assist States in “scaling up” scientifically based practices through existing in-State technical assistance systems.

(c) Disseminate findings and approaches to appropriate audiences through the project's communication mechanism and the collaborative national and State partnerships;

(d) At the local level—

(1) Identify a number of LEAs (i) that have successfully used scientifically based practices to monitor and effect continuous and substantial progress for students with disabilities; and (ii) that are willing to work with other LEAs that have been less successful;

(2) Provide continuous assistance to the LEAs to help them work with less successful LEAs; and

(e) At the local level—

(1) Identify a number of LEAs that have been less successful in their efforts to continuously monitor progress and show evidence of progress—first in reading and language arts, next in mathematics, then in science;

(2) In concert with the successful LEAs, provide training and technical assistance through other means to help schools in less successful LEAs adapt and implement scientifically based practices;

(3) Observe and document the process of change; and

(4) Help less successful LEAs build capacity to solve problems.

(f) Establish an evaluation mechanism to continuously analyze the implementation of scientifically based practices, the outcomes of the technical assistance provided, including effect on student academic outcomes. The evaluation should not only document successful practices, but, also—

(1) Analyze less successful approaches to technical assistance to determine what changes could strengthen those approaches;

(2) Examine patterns and strategies for implementing effective practices across successful LEAs;

(3) Identify research areas of limited knowledge where further research is needed to identify effective practices; and

(4) Compile documentation to assist other LEAs and other technical assistance providers in implementing research-based practices.

(g) Develop training materials to support and train, on site, participating RRCs, States, and LEAs.

(h) Prepare and disseminate information and products for specific audiences, as appropriate, such as parents, administrators, teachers, related-services personnel, researchers, and individuals with disabilities.

(i)(1) Communicate, collaborate, and form partnerships, as appropriate, with entities such as technical assistance providers at national, regional, and local levels; centers that are part of the Special Education Technical Assistance and Dissemination Network; the National Center on Educational Outcomes; OSEP-funded projects; business and professional organizations; and universities.

(2) In particular, the project must build and maintain communication and collaboration with research and demonstration projects that are addressing issues related to the focus of this priority.

(j) Establish, maintain, and meet at least annually with an advisory committee consisting of representatives of SEAs and LEAs, individuals with disabilities, parents, educators and other interested parties—such as, professional organizations, and advocacy groups, researchers, persons conversant with literature on reform and change, and other appropriate groups—to review and advise on the Center's plans, products, and activities.

(k) In addition to the annual two-day Project Directors' meeting in Washington, DC mentioned in the “General Requirements” section of this notice, budget for two additional trips annually to Washington, DC (1) to attend the Technical Assistance and Dissemination Project Directors' meeting and (2) to meet and collaborate with the OSEP project officer and with other projects focusing on access to the general education curriculum.

Fourth and Fifth Years of Project

In deciding whether to continue this project for the fourth and fifth years, the Secretary will consider the requirements of 34 CFR 75.253(a) for continuation awards. The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

Number of Awards

Under this priority, the Secretary will make one award for a cooperative agreement.

Absolute Priority 3—Center to Promote Involvement by Minority Institutions in Discretionary Programs under IDEA (CFDA 84.326L)

Background

Congress has concluded that success in educating children with disabilities from minority backgrounds can be improved if we increase the participation by Historically Black Colleges and Universities (HBCUs), and other institutions of higher education whose minority student enrollment is at least 25 percent (OMIs) in awards under IDEA. These awards include grants, cooperative agreements and contracts (section 661(d)(2) of IDEA).

Priority

The purpose of this priority is to improve educational results for children with disabilities by supporting a national center to: (a) Promote the participation by, and increase the number of awards to HBCUs and OMIs in competitions under IDEA designed to prepare personnel; and (b) increase the capacity of HBCUs and OMIs to prepare personnel to work with children with disabilities.

The Center must do the following:

(a) Establish and maintain contacts with HBCUs and OMIs.

(b) Analyze the performance of HBCUs and OMIs as a basis for providing technical assistance to them, especially in (1) recruiting and retaining students in personnel preparation programs; (2) improving the quality of those programs; (3) placing students after graduation; (4) and related activities that contribute to improved results for children with disabilities;

(c) Develop materials and implement strategies that are necessary to carry out the Center's activities.

(d) Prepare and disseminate to the HBCUs and OMIs materials explaining personnel preparation competitions under section 673 of IDEA.

(e)(1) Analyze the results of each applicable discretionary grant competition under IDEA in terms of the degree to which HBCUs and OMIs applied, and the degree to which they were successful; and (2) submit this analysis to the Department and the HBCUs and OMIs served by the project.

(f) Disseminate practices found to be effective (1) to assist with the development of new special education personnel preparation programs in HBCUs and OMIs; and (2) to expand existing special education programs.

(g) Provide professional development to faculty to ensure that current research knowledge and methods are used in all special education personnel preparation programs in HBCUs and OMIs.

(h) Increase the participation of faculty from HBCUs and OMIs at national and State policy-setting meetings.

(i) As requested by the Department, provide advice on strategies to further the purposes of part D of IDEA.

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) Evidence of the degree to which the project's activities have contributed to changed practice and improved student outcomes.

Number of Awards

Under this priority, the Secretary will make one award for a cooperative agreement.

Absolute Priority 4—National Center on Monitoring and Evidence-Based Decisionmaking (CFDA 84.326Y)

Background

Monitoring and enforcement of IDEA has always been a topic of great concern among advocates, LEA and State administrators, and Federal officials. The Assistant Secretary is supporting an effort to implement a focused monitoring system in which data collection and a small number of carefully chosen priorities drive the process, and intervention and enforcement occur according to set criteria. Although this model system is replicable at the State and local levels, there is still a pressing need to assist States in their efforts to design, implement, and manage data systems and compliance-monitoring processes that can support data-based decisions about special education.

Priority

The Assistant Secretary announces an absolute priority for a technical assistance center to support the implementation of focused monitoring and, thereby, help SEAs and LEAs improve results for children with disabilities.

The Center's activities must include, but are not limited to, the following:

(a)(1) Providing technical assistance to States and LEAs to develop effective practices in monitoring and accountability to implement IDEA. (2) This activity must focus on assistance in data management. This includes the process of collecting accurate and effective data and the development of data systems that focus on data-based decisionmaking. (3) In addition, this project must assist States in (i) using special education data to align with State accountability standards and (ii) organizing and presenting data to decisionmakers and policymakers in an understandable and convincing manner.

(b) Identifying effective practices in monitoring and accountability.

(c) Working with OSEP, the RRCs, and the States to effectively communicate and improve results for children through technical assistance, training, and dissemination of information.

(d) Preparing and disseminating through a Web site and by other means reports and documents on research findings and related topics, including a comprehensive analysis of the monitoring literature.

(e) Maintaining communication and collaboration with other Department-funded projects concerning effective practices by States and LEAs that will improve results for children.

(f) Disseminating findings through collaboration with the National Information Center for Children and Youth with Disabilities and the Regional Resource and Federal Centers Network.

(g) Providing technical assistance and support to OSEP's Monitoring and State Improvement Planning Division.

(h) Presenting findings and providing training at national and regional conferences; and

(i) Using an outside evaluator to measure the progress of the Center.

The Center must also do the following:

(a) Establish, maintain, and meet, as needed, with an advisory committee to review and advise on the Center's activities and progress. The advisory committee must consist of individuals whose organizations or perspectives were part of the group that worked with OSEP on focused monitoring. The committee must include, but is not limited to, representatives of SEAs and LEAs, individuals with disabilities, parents, educators, professional organizations, advocacy groups, researchers, and other appropriate groups. The committee also must include membership from otherwise underrepresented populations.

(b) In addition to the annual two-day Project Directors' Meeting mentioned in the “General Requirements” section of this notice, budget for two additional two-day trips annually to Washington, DC (1) to attend a Project Directors' meeting and (2) to meet and collaborate with the OSEP Project Officer and other funded projects for purposes of cross-project collaboration and information exchange.

Fourth and Fifth Years of Project

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) Evidence of the degree to which the project's activities have contributed to changed practice and improved student outcomes.

Number of Awards

Under this priority, the Secretary will make one award for a cooperative agreement.

Individuals With Disabilities Education Act, Application Notice for Fiscal Year 2002
CFDA No. and name | Applications available | Application deadline date | Deadline for intergovernmental review | Maximum award (per year) * | Estimated number of awards
84.324V Research and Training Center on Scientifically Based Practices and Succesful Early Childhood Transitions | 07/17/02 | 08/19/02 | 09/19/02 | $700,000 | 1
84.324G Center on Early Identification, Child Find, and Referral of Young Children with Disabilities | 07/17/02 | 08/19/02 | 09/19/02 | 700,000 | 1
84.324Q Center on Students Requiring Intensive Social, Emotional, and Behavioral Interventions | 07/17/02 | 08/19/02 | 09/19/02 | 700,000 | 1
84.325G Center for Educating and Providing Early Intervention Services to Children with Autism and Austistic Spectrum Disorders | 07/17/02 | 08/19/02 | 09/19/02 | 1,000,000 | 1
84.325J Center to Guide Personnel Preparation Policy and Practice in Early Intervention and Preschool Education (Birth to 5) | 07/17/02 | 08/19/02 | 09/19/02 | 600,000 | 1
84.325M Statewide Models for Ensuring that Special Education Students in Inclusive Schools are Served by Highly Qualified Teachers | 07/17/02 | 08/19/02 | 09/19/02 | 1,000,000 | 1
84.325R Research and Training Center to Prepare Personnel to Promote Parent and Professional Collaboration | 07/17/02 | 08/19/02 | 09/19/02 | 650,000 | 1
84.325T Center for Children with Other Health Impairments, Traumatic Brain Injury, Orthopedic Impairments and Developmental Delays Who Have Neurologically Based Disabilities | 07/17/02 | 08/19/02 | 09/19/02 | 650,000 | 1
84.326E Technical Assistance Center on Disproportionate Representation of Culturally and Linguistically Diverse Students in Special Education | 07/17/02 | 08/19/02 | 09/19/02 | $700,000 | 1
84.326K Center to Improve Access to the General Education Curriculum for Students with Disabilities at the Elementary and Middle School Levels | 07/17/02 | 08/19/02 | 09/19/02 | 1,800,000 | 1
84.326L Center to Promote Involvement by Minority Institutions in Discretionary Programs under IDEA | 07/17/02 | 08/19/02 | 09/19/02 | 1,656,000 | 1
84.326Y National Center on Monitoring and Evidence-Based Decisionmaking | 07/17/02 | 08/19/02 | 09/19/02 | 1,000,000 | 1
*We will reject any application that proposes a budget exceeding the maximum award for a single budget period of 12 months.
Note: The Department of Education is not bound by any estimates in this notice.

For Applications Contact: If you want an application for any competition in this notice, contact Education Publications Center (ED Pubs), P.O. Box 1398, Jessup, Maryland 20794-1398. Telephone (toll free): 1-877-4ED-Pubs (1-877-433-7827). FAX: 301-470-1244. If you use a telecommunications device for the deaf (TDD), you may call (toll free) 1-877-576-7734.

You may also contact Ed Pubs at its Web site: http://www.ed.gov/pubs/edpubs.html; or you may contact Ed Pubs at its e-mail address: edpubs@inet.ed.gov

If you request an application from Ed Pubs, be sure to identify the competition in this notice by the appropriate CFDA number.

FOR FURTHER INFORMATION CONTACT: If you want additional information about any competition in this notice, contact the Grants and Contracts Services Team, U.S. Department of Education, 400 Maryland Avenue, SW., room 3317, Switzer Building, Washington, DC 20202-2550. Telephone: (202) 260-9182.

If you use a telecommunications device for the deaf (TDD), you may call the Federal Information Relay Service (FIRS) at 1-800-877-8339.

Individuals with disabilities may obtain this document in an alternative format (e.g., Braille, large print, audiotape, or computer diskette) on request to the Grants and Contracts Services Team under FOR FURTHER INFORMATION CONTACT. However, the Department is not able to reproduce in an alternative format the standard forms included in the application package.

Intergovernmental Review

All programs in this notice (except for the Research and Innovation to Improve Services and Results for Children with Disabilities Program) are subject to the requirements of Executive Order 12372 and the regulations in 34 CFR part 79. One of the objectives of the Executive order is to foster an intergovernmental partnership and a strengthened federalism. The Executive Order relies on processes developed by State and local governments for coordination and review of proposed Federal financial assistance. This document provides early notification of our specific plans and actions for these programs.

Electronic Access to This Document

You may view this document, as well as all other Department of Education documents published in the Federal Register, in text or Adobe Portable Document Format (PDF) on the internet at the following site: http://www.ed.gov/legislation/FedRegister

To use the PDF you must have Adobe Acrobat Reader, which is available free at this site. If you have questions about using the PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo/nara/index.html

Program Authority: 20 U.S.C. 1405, 1461, 1472, 1473, and 1485.

Dated: July 11, 2002.
Robert H. Pasternack,
Assistant Secretary for Special Education and Rehabilitative Services.

[FR Doc. 02-17882 Filed 7-15-02; 8:45 am]

BILLING CODE 4000-01-P